DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Region Permit Family of Forms.

OMB Control Number: 0648-0202.

Form Number(s): NA.

Type of Request: Regular submission.

Number of Respondents: 21,554.

Average Hours per Response: Permit applications or renewals, 30 minutes to 1 hour; vessel replacement/upgrade requests, 3 hours; requests for lobster or gillnet tags, exemption requests and notifications, 5 minutes; and proposed sector allocation proposal and plan of operations, 50 hours each.

Burden Hours: 26,832.

Needs and Uses: The participants in the marine fishing industry, including vessel owners, vessel operators, and fish dealers, who wish to participate in regulated Northeast Regional fisheries must apply for, and obtain, permits. Persons obtaining permits may also be subject to notification, tagging, and other requirements. This request affects collections associated with the Atlantic Herring, Atlantic Mackerel, Atlantic Sea Scallop, Black Sea Bass, Bluefish, Illex Squid, Loligo Squid, Butterfish, Monkfish, Northeast (NE) Multispecies, Ocean Quahog, Scup, Spiny Dogfish, Summer Flounder, Surf Clam, Tilefish, Deep-sea Red Crab, NE Skates, and American Lobster Fishery Management Plans, developed under the authority of the Magnuson-Stevens Fishery Conservation and Management Act.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 19, 2009.
Gwellnar Banks,
Management Analyst, Office of the Chief Information Officer.

[FR Doc. E9-28212 Filed 11-24-09; 8:45 am]

BILLING CODE 3510-22-P